SMALL BUSINESS ADMINISTRATION

[Declaration of Disaster #3409]

Commonwealth of Virginia

As a result of the President's major disaster declaration on May 5, 2002, I find that Buchanan and Tazewell Counties in the Commonwealth of Virginia constitute a disaster area due to damages caused by severe storms, tornadoes and flooding occurring on April 28, 2002 through May 3, 2002. Applications for loans for physical damage as a result of this disaster may be filed until the close of business on July 4, 2002 and for economic injury until the close of business on February 5, 2003 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Bland, Dickenson, Russell and Smyth Counties in the Commonwealth of Virginia; Pike County in the State of Kentucky; and McDowell, Mercer and Mingo counties in the State of West Virginia.

The interest rates are:

| Percent
For Physical Damage:
Homeowners with credit available elsewhere | 6.750
Homeowners without credit available elsewhere | 3.375
Businesses with credit available elsewhere | 7.000
Businesses and non-profit organizations without credit
Available elsewhere | 3.500
Others (including non-profit organizations) with credit
Available elsewhere | 6.375
For Economic Injury:
Businesses and small agricultural cooperatives without credit available elsewhere | 3.500

The number assigned to this disaster for physical damage is 340911. For economic injury the number is 9P4200 for Virginia; 9P4300 for Kentucky; and 9P4400 for West Virginia.

(Catalog of Federal Domestic Assistance Program Nos. 59002 and 59008)

Dated: May 6, 2002.
Herbert L. Mitchell,
Associate Administrator For Disaster Assistance.

[FR Doc. 02-11789 Filed 5-10-02; 8:45 am]

BILLING CODE 8025-01-P